DEPARTMENT OF JUSTICE

Notice of Lodging of Proposed Consent Decree Under the Clean Water Act

On August 2, 2021, the Department of Justice lodged a proposed consent decree with the United States District Court for the Western District of Pennsylvania in the lawsuit entitled United States and Pennsylvania Department of Environmental Protection v. Libertas Copper, LLC, d/b/a Hussey Copper, Civil Action No. 2:21-cv-01016-WSS.

This is a civil action brought by the United States, on behalf of the U.S. Environmental Protection Agency, and the Commonwealth of Pennsylvania, Department of Environmental Protection (“PADEP”), against Defendant Libertas Copper, LLC, d/b/a Hussey Copper, alleging violations of the Clean Water Act, the Pennsylvania Clean Streams Law, and Defendant's National Pollutant Discharge Elimination System permit. The complaint alleges that, between 2011 and the present, Libertas Copper discharged wastewater and storm water that caused oil sheens and contained pollutants—including copper, chromium, nickel, oil and grease, lead, pH, total suspended solids, and zinc—from its Leetsdale, Pennsylvania, copper-smelting facility to the Ohio River in violation of federal and state law.

Under the proposed Consent Decree, Libertas Copper would be required to implement significant measures designed to prevent future violations. These include the development and implementation of operational documents and a maintenance program designed to ensure effective collection, pretreatment, and treatment of wastewater; a third-party environmental audit; ongoing internal environmental inspections; violation response requirements; training; and auditing and implementation of an environmental management system. In addition, Defendant will pay a civil penalty of $861,500, to be split evenly between the United States and PADEP.

The publication of this notice opens a period for public comment on the consent decree. Comments should be addressed to the Assistant Attorney General, Environment and Natural Resources Division, and should refer to United States and Pennsylvania Department of Environmental Protection v. Libertas Copper, LLC, d/b/a Hussey Copper, D.J. Ref. No. 90-5-1-1-12068. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $15.25 (25 cents per page reproduction cost) payable to the United States Treasury.

Susan Akers,
Assistant Section Chief, Environmental Enforcement Section, Environment and Natural Resources Division.

[FR Doc. 2021-16892 Filed 8-6-21; 8:45 am]

BILLING CODE 4410-15-P